DEPARTMENT OF ENERGY

Federal Energy Regulatory Commission

[Project No. 13301-002]

Town of Afton; Notice of Application Ready for Environmental Analysis and Soliciting Comments, Recommendations, Terms and Conditions, and Prescriptions

August 14, 2009.

Take notice that the following hydroelectric application has been filed with the Commission and is available for public inspection.

a. Type of Application: Minor.

b. Project No.: P-13301-002.

c. Date filed: April 29, 2009.

d. Applicant: Town of Afton.

e. Name of Project: Culinary Water System Hydroelectric Project.

f. Location: On the culinary water supply system, in the Town of Afton, Lincoln County, Wyoming. The project as proposed would occupy 12.3 acres of land in the Bridger-Teton National Forest.

g. Filed Pursuant to: Federal Power Act 16 U.S.C. 791 (a)-825(r)

h. Applicant Contact: James K. Sanderson, Town of Afton, 416 Washington St., P.O. Box 310, Afton, WY 83110.

i. FERC Contact: Ryan Hansen, 202-502-8074, ryan.hansen@ferc.gov.

j. Due to the paucity of comments on the proceeding to date, we are now issuing the REA notice. Deadline for filing comments, recommendations, terms and conditions, and prescriptions is 30 days from the issuance of this notice; reply comments are due 40 days from the issuance date of this notice. The deadline for filing comments on the Scoping Document (SD) for this proceeding is August 24, 2009. Any comments received on the SD will be addressed in the Environmental Assessment.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov/docs-filing/ferconline.asp) under the “e-filing” link. For a simpler method of submitting text only comments, click on “Quick Comment.”

k. This application has been accepted and is now ready for environmental analysis.

l. The project as proposed by the Town of Afton would consist of the following facilities: (1) An existing intake at Periodic Springs; (2) an existing 870-foot-long, 14-inch-diameter pipe; (3) an existing 97,000 gallon buried concrete surge tank; (4) an existing 16,775-foot-long, 18-inch-diameter iron ductile waterline; (5) a new approximately 95-foot-long, 2-foot-diameter ductile iron penstock conveying flows from the existing pipe to the new powerhouse; (6) a new 20-foot-long by 20-foot-wide powerhouse containing a single Pelton turbine and generator with an installed capacity of 225 kilowatts (kW); (7) a new approximately 10-foot-long, 2.5-foot-diameter draft tube discharging flows from the powerhouse to an existing access hatchway at the top of an existing storage tank; (8) an approximately 3.4-mile-long existing section of Forest Service access roads that overlays the existing waterline; and (9) appurtenant facilities. The power generated will intertie with the 12.5-kilovolt (kV) distribution system at the culinary water treatment plant.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

n. Public notice of the filing of the initial development application, which has already been given, established the due date for filing competing applications or notices of intent. Under the Commission's regulations, any competing development application must be filed in response to and in compliance with public notice of the initial development application. No competing applications or notices of intent may be filed in response to this notice.

o. Procedural schedule: The application will be processed according to the following Hydro Licensing Schedule. Revisions to the schedule will be made as appropriate.

Milestone | Target date
Deadline for Filing of Agency Recommendations | September 14, 2009.
Notice of the availability of the EA | October 15, 2009.
Ready for Commission Action | October 15, 2009.

Kimberly D. Bose,
Secretary.

[FR Doc. E9-20216 Filed 8-21-09; 8:45 am]

BILLING CODE 6717-01-P